OFFICE OF THE UNITED STATES TRADE REPRESENTATIVE

[Docket Number USTR-2017-0018]

Request for Comments Concerning an Environmental Review of the Proposed Renegotiation of the North American Free Trade Agreement; Correction

AGENCY: Office of the United States Trade Representative

ACTION: Notice; correction.

SUMMARY: The Trade Policy Staff Committee (TPSC) published a document in the Federal Register of September 26, 2017, requesting comments that will assist the Office of the United States Trade Representative (USTR) in an environmental review relating to the renegotiation of the North American Free Trade Agreement (NAFTA), a free trade agreement between the United States, Canada, and Mexico. The document contained an incorrect docket number. The correct docket number is Docket Number USTR-2017-0018.

FOR FURTHER INFORMATION CONTACT: Direct questions about submission of comments to Yvonne Jamison at (202) 395-3475. Direct substantive questions to Sarah Stewart at (202) 395-7320.

Correction: In the Federal Register of September 26, 2017, in FR Doc. 2017-20526, 82 FR 44868-69, correct the docket number wherever it appears to read Docket Number USTR-2017-0018.

Edward Gresser,
Chair, Trade Policy Staff Committee, Office of the United States Trade Representative.

[FR Doc. 2017-21772 Filed 10-5-17; 8:45 am]

BILLING CODE 3290-F8-P